NATIONAL TRANSPORTATION SAFETY BOARD

Proposed Information Collection Activity: Submission for OMB Review, Comment Request

AGENCY: National Transportation Safety Board (NTSB).

ACTION: Notice.

SUMMARY: The NTSB is announcing that it has submitted an Information Collection Request (ICR) to the Office of Management and Budget (OMB) for approval, in accordance with the Paperwork Reduction Act. This ICR describes a voluntary web site that the NTSB proposes to use to obtain feedback from the public regarding the NTSB Web site. This Notice informs the public that they may submit comments concerning the NTSB's proposed collection of information to the NTSB Desk Officer at the OMB.

DATES: Submit written comments regarding this proposed collection of information by June 9, 2008.

ADDRESSES: Respondents may submit written comments on the collection of information to the Office of Information and Regulatory Affairs of the Office of Management and Budget, Attention: Desk Officer for the National Transportation Safety Board, Washington, DC 20503.

FOR FURTHER INFORMATION CONTACT: Christine Fortin, NTSB Office of Chief Information Officer, at (202) 314-6607.

SUPPLEMENTARY INFORMATION: In accordance with the Paperwork Reduction Act, the NTSB previously published a Notice in the Federal Register indicating its proposal to collect feedback concerning its public Web site, and sought comments from the public concerning this proposed ICR. The NTSB did not receive any comments. At this juncture, in accordance with OMB regulations that require this additional Notice for proposed ICRs, the NTSB seeks to notify the public that it may submit comments on this proposed ICR to OMB. 5 CFR 1320.10(a).

The NTSB Online Customer Satisfaction Survey will seek the public's feedback regarding a variety of aspects of the current NTSB Web site. In particular, the survey will solicit feedback concerning the public's satisfaction with the content of information on the Web site, as well as the presentation and organization of information that is available on the NTSB Web site. The survey will also ask the public for opinions regarding the overall utility of certain categories of the existing Web site. The survey will also seek responses to questions concerning ways to improve the Web site, such as whether the public would find it helpful to include certain information. In addition, the survey will seek general comments regarding ways the NTSB can improve its Web site. Finally, the survey will inquire into whether respondents are affiliated with a particular group, industry, or profession, and how often respondents visit the NTSB Web site.

Respondents' participation in the survey is voluntary. The survey will only be available on the NTSB Web site, and the NTSB has carefully reviewed the survey to ensure that it has used plain, coherent, and unambiguous terminology in its requests for information and feedback. The survey is not duplicative of other agencies' collections of information. The survey will consist of seven questions, and imposes minimal burden on respondents: the NTSB estimates that respondents will spend approximately 10 minutes in completing the survey. The NTSB estimates that approximately 100 respondents will participate in the survey.

Dated: May 2, 2008.
Vicky D'Onofrio,
Federal Register Liaison Officer.

[FR Doc. E8-10117 Filed 5-8-08; 8:45 am]

BILLING CODE 7533-01-M